DEPARTMENT OF TRANSPORTATION

Federal Motor Carrier Safety Administration

Notice of Fiscal Year 2009 Safety Grants and Solicitation for Applications

AGENCY: Federal Motor Carrier Safety Administration (FMCSA), DOT.

ACTION: Notice.

SUMMARY: This notice is intended to announce the Fiscal Year (FY) 2009 FMCSA safety grant opportunities and to provide schedules and directions for those grant programs posted on grants.gov (http://www.grants.gov). FMCSA disseminates funds and oversees grants awarded in support of 11 safety programs. These programs consist of the Motor Carrier Safety Assistance Program (MCSAP) Basic and Incentive grants, MCSAP New Entrant Safety Audit grants, MCSAP High Priority grants, Commercial Motor Vehicle (CMV) Operator Safety Training grants, Border Enforcement grants (BEG), Commercial Driver's License Program Improvement (CDLPI) grants, Commercial Driver's License Information System (CDLIS) Modernization grants, Performance and Registration Information Systems Management (PRISM) grants, Safety Data Improvement Program grants (SaDIP), and Commercial Vehicle Information Systems and Networks (CVISN) grants. Each of these grant programs was provided for in the Agency's most recent authorization, the Safe, Accountable, Flexible, Efficient Transportation Equity Act: A Legacy for Users (SAFETEA-LU). The purpose of this Notice is to provide a comprehensive source of information regarding the opportunities for funding under the FMCSA's grant programs.

SUPPLEMENTARY INFORMATION: Additional information is provided below for each individual grant program.

MCSAP Basic and Incentive Grants

Sections 4101 and 4107 of SAFETEA-LU authorize the Motor Carrier Safety Grants funding for FY 2006 through FY 2009. MCSAP Basic and Incentive grants are governed by 49 U.S.C. 31102-31104 and 49 CFR Part 350. Under the Basic and Incentive grant programs, a State lead MCSAP agency, as designated by its Governor, is eligible to apply for Basic and Incentive grant funding by submitting a commercial vehicle safety plan (CVSP). See 49 CFR 350.201 and 205. Pursuant to 49 CFR 350.303, FMCSA will reimburse each lead State MCSAP agency 80 percent of eligible costs incurred in a fiscal year. Each lead agency will provide a 20 percent match to qualify for the program. In accordance with 49 CFR 350.323, the Basic grant funds will be distributed proportionally to each State's lead MCSAP agency using the following four equally weighted (25 percent) factors:

(1) 1997 road miles (all highways) as defined by the FMCSA;

(2) All vehicle miles traveled (VMT) as defined by the FMCSA;

(3) Population—annual census estimates as issued by the U.S. Census Bureau; and

(4) Special fuel consumption (net after reciprocity adjustment) as defined by the FMCSA.

A State lead MCSAP agency may qualify for Incentive Funds if it can demonstrate that its CMV safety program has shown improvement in any or all of the following five categories:

(1) Reduction in the number of large truck-involved fatal accidents;

(2) Reduction in the rate of large-truck-involved fatal accidents or maintenance of a large-truck-involved fatal accident rate that is among the lowest 10 percent of such rates for MCSAP recipients and is not higher than the rate most recently achieved;

(3) Upload of CMV accident reports in accordance with current FMCSA policy guidelines;

(4) Verification of Commercial Driver's Licenses during all roadside inspections; and

(5) Upload of CMV inspection data in accordance with current FMCSA policy guidelines. Incentive funds will be distributed in accordance with 49 CFR 350.327(b).

Prior to the start of each fiscal year, FMCSA calculates the amount of Basic and Incentive Funding each State is expected to receive. This information is provided to the States and is made available on the Agency's Web site at www.fmcsa.dot.gov/documents/safety-security/ATTCHMNT3-Est-09-Funding-Planning-Dist.pdf.

For FY 2009, $152,387,000 for Basic grant funding and $10,000,000 for Incentive grant funding is expected to be available. It should be noted that Basic and Incentive grants are awarded based on the State's submission of the CVSP. The evaluation factors described in the section below titled “Application Information for FY 2009 Grants” will not be considered and submission of applications to grants.gov is not necessary.

New Entrant Safety Audit Grants

Sections 4101 and 4107 of SAFETEA-LU also authorize the Motor Carrier Safety Grants funding for FY 2006 through FY 2009 to enable grant recipients to conduct interstate New Entrant safety audits consistent with 49 CFR Parts 350.321 and 385.301. State and local governments are eligible to apply. The FMCSA's share of these grant funds will be 100 percent for State agencies. New Entrant grant applications must be submitted electronically through grants.gov.

For FY 2009, the level of funding is expected to be up to $29,000,000 for New Entrant Safety Audits.

MCSAP High Priority Grants

Section 4101 of SAFETEA-LU also authorizes the Motor Carrier Safety Grants funding for FY 2006 through FY 2009 to enable recipients to carry out activities and projects that improve CMV safety and compliance with CMV regulations. Funding is available for projects that are national in scope, increase public awareness and education, demonstrate new technologies and reduce the number and rate of CMV accidents. Eligible recipients are State agencies, local governments, and organizations representing government agencies that use and train qualified officers and employees in coordination with State motor vehicle safety agencies.

For grants awarded for public education activities, the Federal share will be 100 percent. For all High Priority grants other than those awarded in support of public education activities, the FMCSA will provide reimbursements for no more than 80 percent of all eligible costs, and recipients will be required to provide a 20 percent match. FMCSA may reserve up to $5 million in FY 2009 High Priority funding exclusively for innovative traffic enforcement projects, with particular emphasis on work zone enforcement and rural road safety. Also, FMCSA may reserve up to $10 million for an innovative traffic enforcement initiative known as “Ticketing Aggressive Cars and Trucks” or TACT. TACT provides a research-based safety model that can be replicated by States when conducting a high-visibility traffic enforcement program to promote safe driving behaviors among car and truck drivers. The objective of this program is to reduce the number of commercial truck and bus related crashes, fatalities and injuries resulting from improper operation of motor vehicles and aggressive driving behavior. More information regarding TACT can be found at http://www.fmcsa.dot.gov/safety-security/tact/abouttact.htm.

Consistent with Section 4107 of SAFETEA-LU, for FY 2009, up to $15,000,000 of High Priority grant funds are expected to be available. High Priority grant applications must be submitted electronically through grants.gov.

CMV Operator Safety Training Grants

Section 4134 of SAFETEA-LU establishes a grant program which enables recipients to train current and future drivers in the safe operation of CMVs, as defined in 49 U.S.C. 31301(4). Eligible awardees include State governments, local governments, and accredited post-secondary educational institutions (public or private) such as colleges, universities, vocational-technical schools and truck driver training schools. Funding priority for this discretionary grant funding will be given to regional or multi-state educational or nonprofit associations serving economically distressed regions of the United States. The Federal share of these funds will be 80 percent, and the recipients will be required to provide a 20 percent match. CMV Operatory Safety Training grant applications must be submitted electronically through grants.gov.

For FY 2009, $1,000,000 of CMV Operator Safety Training grant funds are expected to be available.

Border Enforcement Grants (BEG)

Section 4110 of SAFETEA-LU established the BEG program. The purpose of this discretionary program is to provide funding for border CMV safety programs and related enforcement activities and projects. An entity or a State that shares a land border with another country is eligible to receive this grant funding. Eligible awardees include State governments, local governments, and entities (i.e. accredited post-secondary educational institutions (public or private) such as universities). Requests from entities must be coordinated with the State lead CMV inspection agency. Applications must include a Border Enforcement Plan and meet the required maintenance of expenditure requirement. BEG awards will take into consideration the State or entity's performance on previous BEG awards; its ability to expend the awarded funds with the BEG performance year; and activities meeting the BEG national criteria established by the FMCSA. As established by SAFETEA-LU, the Federal share of these funds will be 100 percent, and there is no matching requirement. BEG grant applications must be submitted electronically through grants.gov.

For FY 2009, $32,000,000 of BEG grant funds are expected to be available.

CDLPI Grant

Section 4124 of SAFETEA-LU includes a discretionary grant program that provides funding for improving States' implementation of the Commercial Driver's License (CDL) program, including expenses for computer hardware and software, publications, testing, personnel, training Funds may not be used to rent, lease, or buy land or buildings. The agency designated by each State as the primary driver licensing agency responsible for the development, implementation, and maintenance of the CDL program is eligible to apply for grant funding. State grant proposals must include the State's assessment of its CDL and a detailed budget explaining how the funds will be used. The Federal share of funds for projects awarded under this grant is established by SAFETEA-LU as 100 percent. Therefore, there is no State matching requirement. The funding opportunity announcement on grants.gov will provide more detailed information on the application process; national funding priorities for FY 2009; evaluation criteria; required documents and certifications; State maintenance of expenditure requirements; and additional information related to the availability of funds. Additional information is listed later in this document. CLDPI grant applications must be submitted electronically through grants.gov.

For FY 2009, $25,000,000 of grant funds are expected to be available.

CDLIS Modernization Grants

Section 4123 of SAFETEA-LU includes a discretionary grant program that provides funding for modernization of CDLIS. This section includes funds for States to upgrade their driver licensing information systems for the specific purpose of making them compatible with the new modernized CDLIS specifications. The agency in each State designated as the primary driver licensing agency responsible for the development, implementation, and maintenance of the CDL program is eligible to apply for grant funding. The Federal share of the funds for projects awarded under this grant is established by SAFETEA-LU as 80 percent; there is a 20 percent matching requirement. States may use in-kind contributions to meet this matching requirement (including annual CDLIS pointer fees). Funds are available to any State that is in substantial compliance with the requirements of 49 U.S.C. 31311 and submits a grant proposal that qualifies under the conditions in this notice, including assuming the responsibility of incorporating the new CDLIS specifications and improving its commercial driver licensing system. State grant proposals must include a detailed budget explaining how the funds will be used and how the State will meet the matching requirements. The funding opportunity announcement on grants.gov will provide more detailed information on the application process; eligible projects under the CDLIS Modernization plan; evaluation criteria; required documents and certifications; and additional information related to the availability of funds. Additional information is listed later in this document. CDLIS Modernization grant applications must be submitted electronically through grants.gov.

For FY 2009, $8,000,000 of grant funds are expected to be available.

SaDIP Grants

Section 4128 of SAFETEA-LU establishes the Safety Data Improvement Program (SaDIP). The legislation supports a discretionary grant program that provides funding for States to improve the quality of large truck and bus crash and inspection data reported by the States to FMCSA. Eligible awardees include a State agency located in one of the fifty States, the District of Columbia, Puerto Rico, Northern Mariana Islands, American Samoa, Guam, and the U.S. Virgin Islands. SaDIP grant applications must be submitted electronically through grants.gov.

For FY 2009, $3,000,000 of grant funds are expected to be available.

PRISM Grants

Section 4109 of SAFETEA-LU provides funding for States to implement the Performance and Registration Information Systems Management (PRISM) requirements that link Federal motor carrier safety information systems with State CMV registration and licensing systems to enable a State to determine the safety fitness of a motor carrier or registrant when licensing or registering or while the license or registration is in effect. PRISM grant applications must be submitted electronically through grants.gov.

In FY 2009, $5,000,000 of grant funds are expected to be available.

CVISN Grants

Section 4126 of SAFETEA-LU provides funding for States to deploy, operate, and maintain elements of their Commercial Vehicle Information Systems and Networks (CVISN) Program, including commercial vehicle, commercial driver, and carrier-specific information systems and networks. The agency in each State designated as the primary agency responsible for the development, implementation, and maintenance of a CVISN-related system is eligible to apply for grant funding.

Section 4126 of SAFETEA-LU distinguishes between two types of CVISN projects: Core and Expanded. To be eligible for funding of Core CVISN deployment project(s), a State must have its most current Core CVISN Program Plan and Top-Level Design approved by FMCSA and the proposed project(s) should be consistent with its approved Core CVISN Program Plan and Top-Level Design. If a State does not have a Core CVISN Program Plan and Top-Level Design, it may apply for up to $100,000 in funds to either compile or update a Core CVISN Program Plan and Top-Level Design.

A State may also apply for funds to prepare an Expanded CVISN Program Plan and Top-Level Design if FMCSA acknowledged the State as having completed Core CVISN deployment. In order to be eligible for funding of any Expanded CVISN deployment project(s), a State must have its most current Expanded CVISN Program Plan and Top-Level Design approved by FMCSA and any proposed Expanded CVISN project(s) should be consistent with its Expanded CVISN Program Plan and Top-Level Design. If a State does not have an Expanded CVISN Program Plan and Top-Level Design, it may apply for up to $100,000 in funds to either compile or update an Expanded CVISN Program Plan and Top-Level Design.

In FY 2009, $25,000,000 of CVISN grant funds are expected to be available. CVISN grant applications must be submitted electronically through grants.gov. Awards for approved CVISN grant applications are made on a first-come, first-served basis.

Application Information for FY 2009 Grants: (Note: This section is not applicable to MCSAP Basic and Incentive grant application processes.) Visit www.grants.gov. Information on the grant, application process, and additional contact information is available at that Web site. General information about the FMCSA grant programs is available in the Catalog of Federal Domestic Assistance (CFDA) which can be found on the Internet at http://www.cfda.gov. To apply for funding, applicants must register with grants.gov at http://www.grants.gov/applicants/get-registered.jsp and submit an application in accordance with instructions provided.

Evaluation Factors: The following evaluation factors will be used in reviewing the applications for all FMCSA discretionary grants.

(1) Prior performance—Completion of identified programs and goals per the project plan.

(2) Effective Use of Prior Grants—Demonstrated timely use of available funds.

(3) Cost Effectiveness—Applications will be evaluated and prioritized on the expected impact on safety relative to the investment of grant funds. Where appropriate, costs per unit will be calculated and compared with national averages to determine effectiveness. In other areas, proposed costs will be compared with historical information to confirm reasonableness.

(4) Applicability to announced priorities—If national priorities are included in the grants.gov notice, those grants that specifically address these issues will be given priority consideration.

(5) Ability of the applicant to support the strategies and activities in the proposal for the entire project period of performance.

(6) Use of innovative approaches in executing a project plan to address identified safety issues.

(7) Feasibility of overall program coordination and implementation based upon the project plan.

(8) Grant specific evaluation factors as described in the grants.gov application information. The FMCSA provides information on its Web site outlining past fiscal year (FY) MCSAP Basic, Incentive, and discretionary grants funding by State (http://www.fmcsa.dot.gov/safety-security/safety-initiatives/mcsap/funding.htm).

DATES: For the following discretionary grant programs, FMCSA will consider funding completed applications between the following dates:

New Entrant Safety Audits Grants—October 1, 2008-December 1, 2008

Border Enforcement Grants—October 1, 2008-November 15, 2008

MCSAP High Priority Grants—October 1, 2008

CMV Operator Safety Training Grants—October 1, 2008-December 1, 2008

CDLPI Grants—November 1, 2008-January 30, 2009

CDLIS Modernization Grants—November 15, 2008-February 15, 2009

SaDIP Grants—November 1, 2008-February 1, 2009

PRISM Grants—January 1, 2009-March 1, 2009

CVISN Grants—January 1, 2009-July 15, 2009

When each of those applications has been reviewed, and funding has been awarded as appropriate, applications submitted after these due dates may be considered on a case-by-case basis.

FOR FURTHER INFORMATION CONTACT: Please contact the following FMCSA staff with questions or needed information on the Agency's grant programs:

New Entrant Safety Audits Grants—Arthur Williams, arthur.williams@dot.gov, 202-366-3695

Border Enforcement Grants—Carla Vagnini, carla.vagnini@dot.gov, 202-366-3771

MCSAP High Priority Grants—Cim Weiss, cim.weiss@dot.gov, 202-366-0275

CMV Operator Safety Training Grants—Julie Otto, julie.otto@dot.gov, 202-366-0710

CDLPI Grants—Brandon Poarch, brandon.poarch@dot.gov, 202-366-3030

CDLIS Modernization Grants—Brandon Poarch, brandon.poarch@dot.gov, 202-366-3030

SaDIP Grants—Suzanne Cotty, suzanne.cotty@dot.gov, 202-493-0304

PRISM Grants—Tom Lawler, tom.lawler@dot.gov, 202-366-3866

CVISN Grants—Jeff Secrist, jeff.secrist@dot.gov, 202-385-2367

All staff may be reached at FMCSA, 1200 New Jersey Avenue, SE., Washington, DC 20590. Office hours are from 8 a.m. to 4:30 p.m., EST, Monday through Friday, except Federal holidays.

Issued on: October 7, 2008.
William A. Quade,
Associate Administrator for Enforcement and Program Delivery.
Terry Shelton,
Associate Administrator for Research and Information Technology.

[FR Doc. E8-24697 Filed 10-16-08; 8:45 am]

BILLING CODE 4910-EX-P